DEPARTMENT OF TRANSPORTATION

Federal Aviation Administration

14 CFR Part 39

[Docket No. FAA-2019-0643; Product Identifier 2019-SW-013-AD; Amendment 39-19719; AD 2019-10-51]

RIN 2120-AA64

Airworthiness Directives; Airbus Helicopters Deutschland GmbH Helicopters

AGENCY: Federal Aviation Administration (FAA), DOT.

ACTION: Final rule; request for comments.

SUMMARY: The FAA is publishing a new airworthiness directive (AD) for all Airbus Helicopters Deutschland GmbH Helicopters (Airbus) Model MBB-BK 117 C-2 helicopters. Emergency AD 2019-10-51 was sent previously to all known U.S. owners and operators of these helicopters. This AD requires, for certain helicopters, inspecting the fuselage frame and providing certain information to the FAA. This AD also prohibits installing certain components as part of Supplemental Type Certificate (STC) SR00592DE on any helicopter. This AD was prompted by reports of fatigue cracks in the fuselage frame. The FAA is issuing this AD to address the unsafe condition on these products.

DATES: This AD is effective September 19, 2019 to all persons except those persons to whom it was made immediately effective by Emergency AD 2019-10-51, issued on May 16, 2019, which contained the requirements of this amendment.

The Director of the Federal Register approved the incorporation by reference of a certain publication identified in this AD as of September 19, 2019.

The FAA must receive comments on this AD by October 21, 2019.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this final rule, contact Air Methods Corporation, 5500 South Quebec Street, Suite 300, Greenwood Village, CO 80111; telephone 303-792-7557 or at http://www.unitedrotorcraft.com/. You may view this service information at the FAA, Office of the Regional Counsel, Southwest Region, 10101 Hillwood Pkwy, Room 6N-321, Fort Worth, TX 76177. For information on the availability of this material at the FAA, call 817-222-5110. It is also available on the internet at http://www.regulations.gov by searching for and locating Docket No. FAA-2019-0643.

Examining the AD Docket

You may examine the AD docket on the internet at http://www.regulations.gov by searching for and locating Docket No. FAA-2019-0643; or in person at Docket Operations between 9 a.m. and 5 p.m., Monday through Friday, except Federal holidays. The AD docket contains this final rule, the regulatory evaluation, any comments received, and other information. The street address for Docket Operations is listed above. Comments will be available in the AD docket shortly after receipt.

FOR FURTHER INFORMATION CONTACT: Cynthia Bradley, Aviation Safety Engineer, Denver ACO Branch, Compliance & Airworthiness Division, FAA, 26805 East 68th Ave., Room 214, Denver, CO 80249; telephone (303) 342-1082; email cynthia.bradley@faa.gov.

SUPPLEMENTARY INFORMATION:

Discussion

On May 16, 2019, the FAA issued Emergency AD 2019-10-51, which requires for certain serial-numbered helicopters, inspecting the fuselage frame before further flight and providing certain information to the FAA within 10 hours time-in-service (TIS) after the required inspections. This AD also prohibits installing certain components as part of STC SR00592DE on any helicopter. Emergency AD 2019-10-51 was sent previously to all known U.S. owners and operators of these helicopters. This action was prompted by reports of fatigue cracks in the fuselage frame, through the left-hand door frame webs and frame cap at station 4135. These cracks occurred on certain serial numbered helicopters with STC SR00592DE installed. The cracks initiated under the doubler that reinforces the door frame where recessed medical wall fittings are attached. In one case, the crack under the doubler propagated through the inboard frame cap and onto the inboard web. This condition, if not corrected, could result in excessive vibration, an in-flight breakup, and subsequent loss of control of the helicopter. Although the exact cause of this unsafe condition is still being investigated, the FAA has determined that the cracks are a result of the recessed medical wall rack installation.

Related Service Information Under 1 CFR Part 51

The FAA reviewed Air Methods Alert Service Bulletin ASB19-03, Revision IR, dated May 6, 2019 (ASB). The ASB requires removing the recessed medical wall rack and describes procedures for inspecting the door frame at the forward medical wall rack doubler for cracks. If cracks are discovered, the ASB specifies that the aircraft is grounded until repairs are made. This service information is reasonably available because the interested parties have access to it through their normal course of business or by the means identified in the ADDRESSES section.

FAA's Determination

The FAA is issuing this AD after evaluating all the relevant information and determining the unsafe condition described previously is likely to exist or develop in other products of this same type design.

AD Requirements

This AD requires the following for certain serial-numbered helicopters:

• Before further flight, removing the recessed medical wall rack, inspecting the fuselage frame box beam structure for cracks and loose rivets, and making repairs if necessary or reinstalling the inboard web of the box beam and the cabin interior panels with the medical wall rack to remain removed and

• Within 10 hours TIS after the required inspections, providing the inspection results, photographs of inspected areas, total helicopter hours TIS since installation of STC SR00592DE, and the helicopter serial number to the FAA.

This AD also prohibits installing on any helicopter recessed medical wall assembly part number (P/N) 778-1400-001, wall mount fittings P/N 900-9959-001, aft medical wall doubler P/N 900-9989, and medical wall long doubler P/N 900-6021 at stations 4135 and 4963.19 as part of STC SR00592DE.

Differences Between This AD and the Service Information

This AD requires the inspections before further flight, whereas the ASB specifies within 10 flight hours. This AD requires a single inspection before further flight, whereas the ASB specifies repetitive inspections every 200 hours TIS following the initial inspection. This AD does not require contacting Air Methods for disposition on the discovery of cracks, whereas the ASB does.

Interim Action

The FAA considers this AD interim action. The inspection reports that are required by this AD will enable the FAA to obtain better insight into the cause of the cracking and eventually to develop final action to address the unsafe condition. Once final action has been identified, the FAA might consider further rulemaking. Also, the FAA is currently considering requiring repetitive inspections of the frame. However, the planned compliance time for those inspections would allow enough time to provide notice and opportunity for prior public comment on the merits of the repetitive inspections.

FAA's Justification and Determination of the Effective Date

Section 553(b)(3)(B) of the Administrative Procedure Act (APA) (5 U.S.C.) authorizes agencies to dispense with notice and comment procedures for rules when the agency, for “good cause,” finds that those procedures are “impracticable, unnecessary, or contrary to the public interest.” Under this section, an agency, upon finding good cause, may issue a final rule without seeking comment prior to the rulemaking.

An unsafe condition exists that required the immediate adoption of Emergency AD 2019-10-51, issued on May 16, 2019, to all known U.S. owners and operators of these helicopters. The FAA found that the risk to the flying public justified waiving notice and comment prior to adoption of this rule because an unsafe condition existed which required corrective actions before further flight. These conditions still exist and the AD is hereby published in the Federal Register as an amendment to section 39.13 of the Federal Aviation Regulations (14 CFR 39.13) to make it effective to all persons. Accordingly, notice and opportunity for prior public comment are impracticable and contrary to public interest pursuant to 5 U.S.C. 553(b)(3)(B). In addition, for the reason stated above, the FAA finds that good cause exists pursuant to 5 U.S.C. 553(d) for making this amendment effective in less than 30 days.

Comments Invited

This AD is a final rule that involves requirements affecting flight safety and was not preceded by notice and an opportunity for public comment. However, the FAA invites you to send any written data, views, or arguments about this final rule. Send your comments to an address listed under the ADDRESSES section. Include the docket number FAA-2019-0643 and Product Identifier 2019-SW-013-AD at the beginning of your comments. The FAA specifically invites comments on the overall regulatory, economic, environmental, and energy aspects of this final rule. The FAA will consider all comments received by the closing date and may amend this final rule because of those comments.

The FAA will post all comments received, without change, to http://www.regulations.gov, including any personal information you provide. The FAA will also post a report summarizing each substantive verbal contact received about this final rule.

Costs of Compliance

The FAA estimates that this AD affects 10 helicopters of U.S. registry and estimates the following costs to comply with this AD. Labor costs are estimated at $85 per work-hour. Removing the recessed medical wall rack takes about 0.25 work-hour, inspecting for cracks and loose rivets takes about 8 work-hours, and reporting the required information takes about 1 work-hour for an estimated cost of $786 per helicopter and $7,860 for the affected U.S. fleet. Thirty-three blind rivets at about $1.50 each are required to reinstall the inboard web if there are no cracks for a total cost of $50. Loose fitting/doubler rivets cost about $1.50 each. The FAA has no way of estimating the cost to repair any cracked structure.

Paperwork Reduction Act

A federal agency may not conduct or sponsor, and a person is not required to respond to, nor shall a person be subject to a penalty for failure to comply with a collection of information subject to the requirements of the Paperwork Reduction Act unless that collection of information displays a currently valid OMB Control Number. The OMB Control Number for this information collection is 2120-0056. Public reporting for this collection of information is estimated to be approximately 1 hour per response, including the time for reviewing instructions, searching existing data sources, gathering and maintaining the data needed, completing and reviewing the collection of information. All responses to this collection of information are mandatory. Send comments regarding this burden estimate or any other aspect of this collection of information, including suggestions for reducing this burden to: Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2019-10-51 Airbus Helicopters Deutschland GmbH: Amendment 39-19719; Docket No. FAA-2019-0643; Product Identifier 2019-SW-013-AD.

(a) Effective Date

This AD is effective September 19, 2019 to all persons except those persons to whom it was made immediately effective by Emergency AD 2019-10-51, issued on May 16, 2019, which contained the requirements of this amendment.

(b) Affected ADs

None.

(c) Applicability

This AD applies to Airbus Helicopters Deutschland GmbH Model MBB-BK 117 C-2 helicopters, certificated in any category.

(d) Subject

Joint Aircraft System Component (JASC) of America Code: 5311, Fuselage main frame.

(e) Unsafe Condition

This AD was prompted by reports of fatigue cracks in a fuselage frame. The FAA is issuing this AD to correct the unsafe condition on these helicopters.

(f) Compliance

Comply with this AD within the compliance times specified, unless already done.

(g) Required Actions

(1) For helicopters with serial numbers 9069, 9185, 9255, 9377, 9389, 9403, 9411, 9457, 9529, or 9637, before further flight:

(i) Remove the recessed medical wall rack in accordance with Part 1, paragraphs 4.1. through 4.3., of Air Methods Alert Service Bulletin ASB19-03, Revision IR, dated May 6, 2019 (ASB).

(ii) Inspect the fuselage frame box beam structure for cracks and loose rivets at station 4135 in accordance with Part 2, paragraphs 5.1 through 5.4., of the ASB, except you are not required to contact Air Methods for disposition if cracks are found. Instead, if there is a crack, repair using a method approved by the Manager, Denver ACO Branch, Compliance & Airworthiness Division, FAA, 26805 East 68th Ave., Room 214, Denver, CO 80249; telephone (303) 342-1081; email: 9 Denver-Aircraft-Cert@faa.gov. Replace any loose rivets.

(iii) If there are no cracks, reinstall the inboard web of the box beam and the cabin interior panels in accordance with Part 2, paragraphs 5.5. and 5.6. of the ASB. Do not reinstall the recessed medical wall rack.

(2) For helicopters with serial numbers 9069, 9185, 9255, 9377, 9389, 9403, 9411, 9457, 9529, or 9637, within 10 hours time-in-service (TIS) after the required inspections, provide the inspection results, photographs of inspected areas, total helicopter hours TIS since installation of Supplemental Type Certificate (STC) SR00592DE, and helicopter serial number to the attention of the person identified in paragraph (j) of this AD. This information is required even if there are no cracks.

(3) For all helicopters, after the effective date of this AD, do not install on any helicopter recessed medical wall assembly part number (P/N) 778-1400-001, wall mount fittings P/N 900-9959-001, aft medical wall doubler P/N 900-9989, and medical wall long doubler P/N 900-6021 at stations 4135 and 4963.19 as part of STC SR00592DE.

(h) Paperwork Reduction Act Burden Statement

A federal agency may not conduct or sponsor, and a person is not required to respond to, nor shall a person be subject to a penalty for failure to comply with a collection of information subject to the requirements of the Paperwork Reduction Act unless that collection of information displays a currently valid OMB Control Number. The OMB Control Number for this information collection is 2120-0056. Public reporting for this collection of information is estimated to be approximately 1 hour per response, including the time for reviewing instructions, searching existing data sources, gathering and maintaining the data needed, completing and reviewing the collection of information. All responses to this collection of information are mandatory. Send comments regarding this burden estimate or any other aspect of this collection of information, including suggestions for reducing this burden to: Information Collection Clearance Officer, Federal Aviation Administration, 10101 Hillwood Parkway, Fort Worth, TX 76177-1524.

(i) Alternative Methods of Compliance (AMOCs)

(1) The Manager, Denver ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (j) of this AD and notify the Denver ACO Branch of the request by email at: 9-Denver-Aircraft-Cert@faa.gov.

(2) Before using any approved AMOC, notify your appropriate principal inspector, or lacking a principal inspector, the manager of the local flight standards district office/certificate holding district office.

(j) Related Information

For more information about this AD, contact Cynthia Bradley, Aviation Safety Engineer, Denver ACO Branch, Compliance & Airworthiness Division, FAA, 26805 East 68th Ave., Room 214, Denver, CO 80249; telephone (303) 342-1082; email cynthia.bradley@faa.gov.

(k) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Air Methods Alert Service Bulletin ASB19-03, Revision IR, dated May 6, 2019.

(ii) [Reserved]

(3) For Air Methods service information identified in this AD, contact Air Methods Corporation, 5500 South Quebec Street, Suite 300, Greenwood Village, CO 80111; telephone 303-792-7557 or at http://www.unitedrotorcraft.com/.

(4) You may view this service information at FAA, Office of the Regional Counsel, Southwest Region, 10101 Hillwood Pkwy, Room 6N-321, Fort Worth, TX 76177. For information on the availability of this material at the FAA, call 817-222-5110.

(5) You may view this service information that is incorporated by reference at the National Archives and Records Administration (NARA). For information on the availability of this material at NARA, call 202-741-6030, or go to: http://www.archives.gov/federal-register/cfr/ibr-locations.html.

Issued in Fort Worth, Texas, on August 19, 2019.
Lance T. Gant,
Director, Compliance & Airworthiness Division, Aircraft Certification Service.

[FR Doc. 2019-18708 Filed 9-3-19; 8:45 am]

BILLING CODE 4910-13-P